DEPARTMENT OF JUSTICE

Antitrust Division

Notice Pursuant to the National Cooperative Research and Production Act of 1933—National Center for Manufacturing Sciences

Notice is hereby given that, on August 28, 2002, pursuant to Section 6(a) of the National Cooperative Research and Production Act of 1993, 15 U.S.C. 4301 et seq. (“the Act”), National Center for Manufacturing Sciences, Inc. has filed written notifications simultaneously with the Attorney General and the Federal Trade Commission disclosing changes in its membership status. The notifications were filed for the purpose of extending the Act's provisions limiting the recovery of antitrust plaintiffs to actual damages under specified circumstances. Specifically, Ferro Corporation, Washington, PA; FOBA North American Laser, Lee's Summit, MO; HY-Tech Research Corporation, Radford, VA; JWH Group, Inc., Peninsula, OH; Monode Marking Products, Inc., Mentor, OH; Motorsoft, Inc., Lebanon, OH; RLW, Inc., State College, PA; Robotic Vision Systems, Inc. (RVSI), Canton, MA; Rockwell Automation, Inc., Milwaukee, WI; Spatial Integrated Systems, Inc. (SIS), Rockville, MD; Telesis Technologies, Inc., Rosewell, GA; and Waterjet Tech, Inc., St. Louis, MO have been added as parties to this venture. Also, Hydrogen Technology Applications, Clearwater, FL; Carnegie Mellon Research Institute, Pittsburgh, PA: Cybernet Systems Corporation, Ann Arbor, MI; ESD, The Engineering Society of Detroit, Southfield, MI; Hurco Companies, Inc., Indianapolis, IN; Information Transport Associates, Inc., Annapolis, MD; IntelliSeek, Inc., Cincinnati, OH; LMI Automotive, Windsor, Ontario, Canada; Metal Finishing Suppliers Association, Inc., Herndon, VA; Michigan Manufacturing Technology Center, Plymouth, MI; MicroDexterity Systems, Inc., Carbondale, CO; Minority Sub-Contractors Center, Inc., Clairton, PA; Primavera Systems, Inc., Bala Cynwyd, PA; Quantum Consultants, Inc., East Lansing, MI; Savi Technology, Inc., St. Charles, MD; Setco Industries, Inc., Novi, MI; SMART Technologies, Inc., Calgary, Alberta, Canada; Southwest Research Institute, San Antonio, TX; Structural Dynamics Research Corporation, Milford, OH; Trellis Software & Controls, Inc., Rochester Hills, MI; and Triton Systems, Inc., Chelmsford, MA have been dropped as parties to this venture.

Bresson, Rupp, Lipa & Company, Ann Arbor, MI has changed its company name to Knovalent, Inc.

No other changes have been made in either the membership or planned activity of the group research project. Membership in this group research project remains open, and National Center for Manufacturing Sciences, Inc. intends to file additional written notification disclosing all changes in membership.

On February 20, 1987, National Center for Manufacturing Sciences, Inc. filed its original notification pursuant to Section 6(a) of the Act. The Department of Justice published a notice in the Federal Register pursuant to Section 6(b) of the Act on March 17, 1987 (52 FR 8375).

The last notification was filed with the Department on May 3, 2002. A notice was published in the Federal Register pursuant to Section 6(b) of the Act on July 8, 2002 (67 FR 45150).

Constance K. Robinson,
Director of Operations, Antitrust Division.

[FR Doc. 02-25520 Filed 10-7-02; 8:45 am]

BILLING CODE 4410-11-M